NATIONAL SCIENCE FOUNDATION

Committee on Equal Opportunities in Science & Engineering; Notice of Meeting

In accordance with the Federal Advisory Committee Act (Pub., L. 92-463, as amended), the National Science Foundation (NSF) announces the following meeting:

Name And Committee Code: Committee on Equal Opportunities in Science & Engineering (#1173) (Virtual)

Date And Time: October 21, 2024; 10:00 a.m.-4:30 p.m. (Eastern)

Place: National Science Foundation, 2415 Eisenhower Avenue, Alexandria, VA 22314 (Virtual). Meeting Registration: Virtual attendance information will be forthcoming on the CEOSE website at http://www.nsf.gov/od/oia/activities/ceose/index.jsp.

Type Of Meeting: Open

Contact Persons: Dr. Bernice Anderson, Senior Advisor and CEOSE Executive Secretary, Office of Integrative Activities (OIA); National Science Foundation, 2415 Eisenhower Avenue, Alexandria, VA 22314. Contact Information: Phone: 703-292-8040, Email: banderso@nsf.gov.

Minutes: Meeting minutes and other information may be obtained from the CEOSE Executive Secretary at the above address or the website at http://www.nsf.gov/od/oia/activities/ceose/index.jsp.

Purpose Of Meeting: To study data, programs, policies, and other information pertinent to the National Science Foundation and to provide advice and recommendations concerning broadening participation in science and engineering.

Agenda

CEOSE Agenda-at-a-Glance (October 21, 2024)

10:00 a.m.-10:30 a.m. Welcome, Introductions, Opening Remarks

10:30 a.m.-11:00 a.m. Presentation: Report of the NSF CEOSE Executive Liaison

11:00 a.m.-12:00 p.m. Presentation: NSF Efforts focused on BP Data Collection and Analyses

12:00 p.m.-12:45 p.m. Lunch Break

12:45 p.m.-1:30 p.m. Discussion: Reports of the CEOSE AC Liaisons

1:30 p.m.-2:45 p.m. Discussion: Draft 2023-2024 CEOSE Report

2:45 p.m.-3:00 p.m. Break

3:00 p.m.-4:15 p.m. Discussion: 2023-2024 Report Recommendations

4:15 p.m.-4:30 p.m. Announcements and Final Remarks

Dated: September 17, 2024.
Crystal Robinson,
Committee Management Officer.

[FR Doc. 2024-21647 Filed 9-20-24; 8:45 am]

BILLING CODE 7555-01-P